DEPARTMENT OF LABOR

Employment and Training Administration

[TA-W-39,764 and TA-W-39,764A]

Oxford Industries, Inc., Oxford of Columbia, Columbia, SC, and Oxford Industries, Inc., Oxford Womenswear, New York, NY; Amended Certification Regarding Eligibility To Apply for Worker Adjustment Assistance

In accordance with section 223 of the Trade Act of 1974 (19 U.S.C. 2273) the Department of Labor issued a Notice of Certification Regarding Eligibility to Apply for Worker Adjustment Assistance on August 30, 2001, applicable to workers of Oxford Industries, Inc., Oxford of Columbia, Columbia, South Carolina. The notice was published in the Federal Register on September 11, 2001 (66 FR 47241).

At the request of the company, the Department reviewed the certification for workers of the subject firm. The company reports that worker separations occurred at the New York, New York location of the subject firm. The New York, New York location provides administrative services supporting the production of ladies' apparel such as pants, skirts jackets and blouses at the Columbia, South Carolina facility of the subject firm.

Based on these findings, the Department is amending the certification to include workers of Oxford Industries, Oxford Womenswear, New York, New York.

The intent of the Department's certification is to include all workers of Oxford Industries, Oxford of Columbia who were adversely affected by increased imports.

The amended notice applicable to TA-W-39,764 is hereby issued as follows:

All workers of Oxford Industries, Inc., Oxford of Columbia, Columbia, South Carolina (TA-W-39,764) and Oxford Industries, Oxford Womenswear, New York, New York (TA-W-39,764A) who became totally or partially separated from employment on or after August 27, 2001, through August 30, 2003, are eligible to apply for adjustment assistance under Section 223 of the Trade Act of 1974.

Signed at Washington, DC, this 15th day of July, 2002.
Linda G. Poole,
Certifying Officer, Division, of Trade Adjustment Assistance.

[FR Doc. 02-18629 Filed 7-23-02; 8:45 am]

BILLING CODE 4510-30-P